ENVIRONMENTAL PROTECTION AGENCY

[EPA-HQ-OPP-2024-0590; FRL-12509-01-OCSPP]

DQB Males (Wolbachia Pipientis, DQB Strain, Contained in Live Adult Culex Quinquefasciatus Males); Receipt of Application for Emergency Exemption, Solicitation of Public Comment

AGENCY: Environmental Protection Agency (EPA).

ACTION: Notice.

SUMMARY: EPA has received a second renewal request for a specific exemption from the Hawaii Department of Agriculture for use of the pesticide DQB Males (Wolbachia pipientis, DQB strain, contained in live adult Culex quinquefasciatus males), to treat up to 20,000 acres of State, Federal, and private wildlife conservation areas throughout the State of Hawaii and to control Culex quinquefasciatus mosquitoes, a vector of avian malaria. The applicant proposes a new use of a microbial pesticide which has not been registered by EPA. Therefore, in accordance with Code of Federal Regulations, EPA is soliciting public comment before making the decision whether to grant the exemption.

DATES: Comments must be received on or before January 10, 2025.

ADDRESSES: Submit your comments, identified by docket identification (ID) number EPA-HQ-OPP-2024-0590, and the specific case number for the chemical substance related to your comment, through the Federal eRulemaking Portal at https://www.regulations.gov. Follow the online instructions for submitting comments. Do not submit electronically any information you consider to be Confidential Business Information (CBI) or other information whose disclosure is restricted by statute. To make special arrangements for hand delivery or delivery of boxed information, please follow the instructions at https://www.epa.gov/dockets/contacts.html. Additional instructions on commenting or visiting the docket, along with more information about dockets generally, is available at https://www.epa.gov/dockets.

FOR FURTHER INFORMATION CONTACT: Charles Smith, Registration Division (7505T), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are a pesticide manufacturer, North American Industrial Classification System (NAICS) (Code 32532) or involved with Hawaiian wildlife conservation areas that have known populations of Culex quinquefasciatus. This listing is not intended to be exhaustive, but rather provides a guide to help readers determine whether this document applies to them. Other types of entities not listed could also be affected.

B. What should I consider as I prepare my comments for EPA?

1. Submitting CBI. Do not submit this information to EPA through www.regulations.gov or email. Clearly mark the part or all the information that you claim to be CBI. For CBI information in a disk or CD-ROM that you mail to EPA, mark the outside of the disk or CD-ROM as CBI, and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low- income populations, in the development, implementation, and enforcement of environmental laws, regulations, and policies. To help address potential environmental justice issues, the Agency seeks information on any groups or segments of the population who, because of their location, cultural practices, or other factors, may have atypical or disproportionately high and adverse human health impacts or environmental effects from exposure to the pesticide(s) discussed in this document, compared to the general population.

II. What action is the Agency taking?

Under section 18 of the Federal Insecticide, Fungicide, and Rodenticide Act (FIFRA) (7 U.S.C. 136p), at the discretion of the EPA Administrator, a Federal or State agency may be exempted from any provision of FIFRA if the EPA Administrator determines that emergency conditions exist which require the exemption. The Hawaii Department of Agriculture has requested the EPA Administrator to issue a specific exemption for the use of DQB males for conservation purposes to control mosquitoes (Culex quinquefasciatus), which are a known vector of avian malaria and threaten Hawaii's endemic forest bird population. Information in accordance with 40 CFR part 166 was submitted as part of this request.

As part of this request, the applicant asserts that avian malaria was introduced into the Hawaiian Islands in the 19th century and spread by a non-native mosquito. Hawaii is experiencing increased mosquito populations that have significantly reduced Hawaiian bird populations. According to the applicant, without mosquito control, the survival and recovery of Hawaii's few remaining forest birds, including threatened and endangered species, are at imminent risk.

The applicant proposes to make a maximum of 156 applications of DQB male mosquitoes per release site per year based on an anticipated maximum of 3 releases per week. The total number of application days is a maximum of 156 during the year. The total amount of DQB Males to be applied per year to treat conservation lands throughout Hawaii is up to 3,000,000 male mosquitoes per week or 156,000,000 males per year. The maximum amount of Wolbachia pipientis, DQB strain, to be applied per year is up to ~1.83 g/week or 95 g/year.

This notice does not constitute a decision by EPA on the application itself. The regulations governing FIFRA section 18 require publication of a notice of receipt of an application for a specific exemption proposing a new use of a microbial pesticide (i.e., an active ingredient) which has not been registered by EPA. The notice provides an opportunity for public comment on the application.

The Agency will review and consider all comments received during the comment period in determining whether to issue the specific exemption requested by the Hawaii Department of Agriculture.

Authority: 7 U.S.C. 136 et seq.

Dated: December 17, 2024.
Charles Smith,
Director, Registration Division, Office of Pesticide Programs.

[FR Doc. 2024-30730 Filed 12-23-24; 8:45 am]

BILLING CODE 6560-50-P